NATIONAL SCIENCE FOUNDATION

U.S. Chief Financial Officer Council; Grants Policy Committee Meeting

ACTION: Notice of open stakeholder meeting and Webcast.

SUMMARY: This notice announces the first of a series of open Webcast stakeholder meetings sponsored by the Grants Policy Committee of the U.S. Chief Financial Officer Council.

DATES: The Committee will hold an open stakeholder meeting and Webcast on Wednesday, October 25, 2006, 11 a.m. to 1:30 p.m.

ADDRESSES: The meeting will be held in Room B-180 of the U.S. Department of Housing and Urban Development at 451 7th Street SW., Washington, DC 20410. Seating is limited—the first 80 people to respond can be part of the live audience. To reserve your seat, contact Charisse Carey-Nunes National Science Foundation. Telephone: (703) 292-5056. E-mail: ccarney@nsf.gov. All who have reserved seating, must arrive at the HUD building fifteen minutes prior to broadcast, arrive on the North side of the building, you must have photo ID to gain access and will have to go to the security screening.

Organizations are encouraged to send only one representative in person to the meeting in order to allow room for maximum representation of diverse groups. The Committee encourages organizations to invite their staffs and members to participate via Webcast.

This will be a live Webcast, allowing interaction and involvement by a substantial number of participants.

FOR FURTHER INFORMATION CONTACT: Charisse Carney-Nunes, National Science Foundation, 4201 Wilson Boulevard, Arlington, VA 22230. Telephone: (703) 292-5056. E-mail: ccarney@nsf.gov. Information about this meeting and Webcast will be posted on the Web site of the Grants Streamlining Initiative at http://www.grants.gov/aboutgrants/streamlining_initiatives.jsp. Please note that a sign-language interpreter for the hearing-impaired will be provided.

Comments Submission Information: You may submit comments during the Webcast via phone or e-mail: phone 202-708-0095 and e-mail HUDTV@hud.gov.

After the Webcast, a link to its recording will be posted on the Web site of the Grants Streamlining Initiative at http://www.grants.gov/aboutgrants/streamlining_initiatives.jsp for at least two additional weeks. Comments on issues pertaining to the meeting will be reviewed on an ongoing basis up until November 8, 2006—two weeks after the conclusion of the meeting. Please submit all post-meeting comments to: PL106107@hhs.gov.

SUPPLEMENTARY INFORMATION: Purpose of the Meeting: The purpose of the meeting is to update and inform the broad community of Public Law (Pub. L.) 106-107 stakeholders about the Grant Policy Committee's (GPC's) past and ongoing activities related to the Federal Grants Streamlining Initiative (FGSI). Additionally, the meeting will serve as an opportunity to receive feedback and clarify any issues of concern to interested stakeholders. Finally, the meeting will assist the Committee as it undertakes planning and agenda setting for future Pub. L. 106-107 stakeholder meetings. The Committee seeks stakeholder input as it frames these upcoming meetings to assist the Committee in attaining its objective to ensure that the government's initiative streamlines and simplifies the grants and cooperative agreements administrative process, while maintaining the highest level customer service satisfaction, efficiency, effectiveness and accountability of the Federal process in a manner cognizant of currently available resources.

Meeting structure and agenda: The October 25th Webcast meeting will have the following structure and agenda:

(1) Welcome by the host agency;

(2) Overview of the Grants Policy Committee by the Committee co-chair;

(3) Updates and status reports from work group chairs: pre-award work group; post-award group; and audit oversight work group; and

(4) Community input, discussion, questions and comments. The meeting organizers have reserved 60-75 minutes for the community input section. Please note that this agenda and any amendments will be posted on the Web site of the Grants Streamlining Initiative at http://www.grants.gov/aboutgrants/streamlining_initiatives.jsp.

Background: Federal programs providing financial assistance comprise a large and diverse enterprise with widely varying purposes and recipient communities. Twenty-six Federal grant making agencies administer approximately $526 billion in grant funds through over 900 programs. The programs stimulate or support a wide variety of public purposes in areas such as health, social services, law enforcement, agriculture, housing, community and regional development, education and training, and research.

The main goal of grants management is to ensure that Federal dollars are effectively spent in accordance with their intended purpose. To achieve this there must be accountability at the Federal level, the grantee level, and even at the sub-grantee level where applicable. A second, sometimes conflicting, goal is to avoid excessive or cumbersome regulation of individual grantees and minimize administrative burden throughout the process.

Public Law 106-107 requires the Office of Management and Budget (OMB) to direct, coordinate, and assist Executive Branch departments and agencies in establishing an interagency process to streamline and simplify Federal financial assistance procedures for non-Federal entities. The law also requires executive agencies to develop, submit to the Congress, and implement a plan for that streamlining and simplification.

Twenty-six Executive Branch agencies jointly submitted a plan to the Congress in May 2001. The plan described the interagency process through which the agencies would review current policies and practices and seek to streamline and simplify them. The process involved interagency work groups under the auspices of the Grants Management Committee of the Chief Financial Officers Council. The plan also identified substantive areas in which the interagency work groups had begun their review.

One of the substantive areas that the agencies identified in the plan was a need to streamline and simplify Federal grant reporting requirements and procedures and associated business processes to reduce unnecessary burdens on recipients and to improve the timeliness, completeness and quality of the information collected.

Through the leadership of the GPC of the U.S. Chief Financial Officer Council, the FGSI was developed to implement the provisions of the Federal Financial Assistance Improvement Management Act of 1999 Public Law 106-107 and to further the Expanded Electronic Government initiative set forth in the President's Management Agenda as it pertains to simplifying grants management. The FGSI is a coordinated, multi-year grant simplification and streamlining program that will improve the management of Federal financial assistance awards by:

• Improving the framework of grant policy;

• Simplifying Federal programs' administrative requirements;

• Exploring electronic processing options;

• Streamlining the delivery of payments; and

• Furthering audit and oversight policy.

With the leadership of the GPC, all Federal grant-making agencies are participating in the FGSI.

Important Information for Webcast Participation

This Webcast will be hosted by and broadcast from the U.S. Department of Housing and Urban Development, located at 451 7th Street, SW., Washington, DC Room B-180. Satellite coordinates for viewing the Webcast can be found on HUD's Web site: http://www.hud.gov/webcasts/satcoord.cfm.

The call-in number and e-mail address available for participants during this Webcast to ask questions/make comments are as follows: phone 202-708-0095 and e-mail HUDTV@hud.gov. This information may only be used DURING the live Webcast. Participants wishing to comment after the meeting must submit their comments to PL106107@hhs.gov.

If you would like to test your computer to make sure you can use the HUD Webcasting software on it, go to http://www.hud.gov/webcasts/index.cfm.

Dated: September 8, 2006.
Thomas N. Cooley,
Chair, Grants Policy Committee of the U.S. Chief Financial Officer Council.

[FR Doc. 06-7614 Filed 9-12-06; 8:45 am]

BILLING CODE 7555-01-M